FEDERAL COMMUNICATIONS COMMISSION

47 CFR Part 25

[IB Docket No. 00-248; FCC 05-62]

Satellite License Procedures

AGENCY: Federal Communications Commission.

ACTION: Notice of proposed rulemaking.

SUMMARY: In this document, the Commission invites comment on an off-axis equivalent isotropically radiated power (EIRP) method for reviewing earth station applications in the fixed satellite service (FSS). The intended purpose of this proceeding is to expedite the earth station license procedure.

DATES: Comments are due on or before September 6, 2005. Reply comments are due on or before October 6, 2005. The Federal Communications Commission will announce filing dates for written comments by the public on the proposed information collections in a future Federal Register document.

ADDRESSES: You may submit comments, identified by IB Docket No. 00-248, by any of the following methods:

• Federal eRulemaking Portal: http://www.regulations.gov. Follow the instructions for submitting comments.

• Federal Communications Commission Web site: http://www.fcc.gov/cgb/ecfs. Follow the instructions for submitting comments.

• People with Disabilities: Contact the FCC to request reasonable accomodations (accessible format documents, sign language interpreters, CART, etc.) by e-mail: FCC504@fcc.gov of phone: (202) 418-0530 or TTY: (202) 418-0432.

For detailed instructions on submitting comments and additional information on the rulemaking process, see the SUPPLEMENTARY INFORMATION section of this document.

In addition to filing comments as set forth above, a copy of any comments on the information collections contained herein should be submitted to Judy Boley Herman, Federal Communications Commission, Room 1-C804, 445 12th Street, SW., Washington, DC 20554, or via the Internet to jbHerman@fcc.gov.

FOR FURTHER INFORMATION CONTACT: Steven Spaeth, Satellite Division, International Bureau, (202) 418-1539, or Mark Young, Satellite Division, International Bureau, (202) 418-0762.

SUPPLEMENTARY INFORMATION: This is a summary of the Commission's Third Further Notice of Proposed Rulemaking, adopted March 10, 2005 and released March 15, 2005. The full text of this Commission decision is available for inspection and copying during normal business hours in the FCC Public Reference Room, 445 Twelfth Street, SW., Room CY-A257, Washington, DC 20554. The complete text of this decision may also be purchased from the Commission's copy contractor, Best Copy and Printing, Inc., Portals II, 445 12th Street, SW., Room CY-B402, Washington, DC 20554. It is also available on the Commission's Web site at http://www.fcc.gov.

Comments may be filed using the Commission's Electronic Comment Filing System (ECFS) or by filing paper copies. See Electronic Filing of Documents in Rulemaking Proceedings, (63 FR 2421 (May 1, 1998)). Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appear in the caption of this proceeding, commenters must submit two additional copies for each additional docket or rulemaking number.

Paperwork Reduction Act

This Third Further Notice contains proposed new and modified information collection(s). The Commission, as part of its continuing effort to reduce paperwork burdens, will invite the general public and the Office of Management and Budget (OMB) to comment on the information collection(s) contained in this NPRM in a future Federal Register document, as required by the Paperwork Reduction Act of 1995, Public Law 104-13.

Summary of Further Notice of Proposed Rulemaking

Under the Commission's current rules, it limits routine treatment of earth station applications to those which meet both power level and antenna diameter requirements. In this NPRM, the Commission proposes combining its power level requirements and antenna diameter requirements into one off-axis EIRP requirement. The Commission anticipates that adoption of this proposal would give earth station operators more flexibility in their operations, and help expedite its review of some non-routine earth station applications.

The Commission proposes prohibiting analog video services after a one-year transition period, unless one of the commenters in this proceeding proposes an off-axis EIRP envelope for analog video services, and provides a sufficient basis for its proposal.

The Commission also invites comment on what revisions would be necessary to its rules providing protection from interference for earth stations, and the information requirements for earth station applications, in the event that it adopts an off-axis EIRP requirement for FSS earth stations. In addition, the Commission requests comment on whether to adopt a procedure for earth station applications that exceed any off-axis EIRP envelope it adopts, and if so, what that procedure should be.

When two or more remote earth stations using a contention protocol transmit simultaneously using the maximum allowed EIRP density per carrier, those transmissions can “collide.” The resulting power level caused by these collisions at a received satellite exceeds the level specified in the Commission's rules during the time period of simultaneous transmission, although for no more than tens of milliseconds. The Commission found that it needs to revise its rules so as not to prohibit the use of contention protocols, and invited comment on a contention protocol rule that would increase the allowed power level as the probability of collision decreases, and would be consistent with its proposed off-axis EIRP requirements.

Finally, the Commission invited comment on requiring VSAT operators planning to put a remote earth station in the Quiet Zone to coordinate with the National Radio Astronomy Observatory (NRAO).

Initial Regulatory Flexibility Analysis

As required by the Regulatory Flexibility Act (RFA),¹ the Commission has prepared this Initial Regulatory Flexibility Analysis (IRFA) of the possible significant economic impact on small entities by the policies and rules proposed in this Third Further Notice. We request written public comments on this IRFA. Commenters must identify their comments as responses to the IRFA and must file the comments by the deadlines for comments on the Third Further Notice provided above. The Commission will send a copy of the Third Further Notice, including this IRFA, to the Chief Counsel for Advocacy of the Small Business Administration.² In addition, the Third Further Notice and IRFA (or summaries thereof) will be published in the Federal Register.³

¹ See 5 U.S.C. 603. The RFA, see 5 U.S.C. 601 et seq., has been amended by the Contract With America Advancement Act of 1996, Pub. Law 104-121, Title II, 110 Stat. 847 (1996) (CWAAA).

² See 5 U.S.C. 603(a).

³ See 5 U.S.C. 603(a).

A. Need for, and Objectives of, the Proposed Rules

The Telecommunications Act of 1996 requires the Commission in every even-numbered year beginning in 1998 to review all regulations that apply to the operations or activities of any provider of telecommunications service and to determine whether any such regulation is no longer necessary in the public interest due to meaningful economic competition.

Our objective is to repeal or modify any rules in part 25 that are no longer necessary in the public interest, as required by section 11 of the Communications Act of 1934, as amended. Specifically, this Third Further Notice proposes adoption of an off-axis EIRP envelope for earth stations in the Fixed Satellite Service (FSS). Adoption of this proposal would allow earth station operators more flexibility in their choice of power level and antenna size. In addition, the Third Further Notice invites comment on revising the rules governing very small aperture terminal (VSAT) networks, to allow VSAT operators to use contention protocols, which are not allowed under the current VSAT rules. However, the Third Further Notice also invites comment on creating certain operating parameters for VSAT networks that use contention protocols, so that they do not cause harmful interference to adjacent satellites.

B. Legal Basis

The proposed action is supported by section 11 of the Communications Act of 1934, as amended, 47 U.S.C. 161.

C. Description and Estimate of the Number of Small Entities to Which the Proposed Rules May Apply

The RFA directs agencies to provide a description of, and, where feasible, an estimate of, the number of small entities that may be affected by the rules adopted herein.⁴ The RFA generally defines the term “small entity” as having the same meaning as the terms “small business,” “small organization,” and “small governmental jurisdiction.” ⁵ In addition, the term “small business” has the same meaning as the term “small business concern” under the Small Business Act.⁶ A small business concern is one which: (1) Is independently owned and operated; (2) is not dominant in its field of operation; and (3) satisfies any additional criteria established by the Small Business Administration (SBA).⁷

⁴ 5 U.S.C. 604(a)(3).

⁵ 5 U.S.C. 601(6).

⁶ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁷ Small Business Act, 15 U.S.C. 632 (1996).

1. Cable Services. The SBA has developed a small business size standard for Cable and Other Program Distribution, which consists of all such firms having $12.5 million or less in annual receipts.⁸ According to Census Bureau data for 1997, in this category there was a total of 1,311 firms that operated for the entire year.⁹ Of this total, 1,180 firms had annual receipts of under $10 million, and an additional fifty-two firms had receipts of $10 million to $24,999,999.¹⁰ Thus, under this size standard, the majority of firms can be considered small.

⁸ 13 CFR 121.201, NAICS code 517510.

⁹ U.S. Census Bureau, 1997 Economic Census, Subject Series: Information, “Establishment and Firm Size (Including Legal Form of Organization),” Table 4, NAICS code 513220 (issued October 2000).

¹⁰ Id.

The Commission has developed its own small business size standard for a small cable operator for the purposes of rate regulation. Under the Commission's rules, a “small cable company” is one serving fewer than 400,000 subscribers nationwide.¹¹ Based on our most recent information, we estimate that there were 1,439 cable operators that qualified as small cable companies at the end of 1995.¹² Since then, some of those companies may have grown to serve over 400,000 subscribers, and others may have been involved in transactions that caused them to be combined with other cable operators. Consequently, we estimate that there are fewer than 1,439 small cable companies that may be affected by the proposed rules.

¹¹ 47 CFR 76.901(e). The Commission developed this definition based on its determinations that a small cable company is one with annual revenues of $100 million or less. See Implementation of Sections of the Cable Television Consumer Protection and Competition Act of 1992: Rate Regulation, MM Docket Nos. 92-266 and 93-215, Sixth Report and Order and Eleventh Order on Reconsideration, 10 FCC Rcd 7393, 7408-7409 ¶¶ 28-30 (1995).

¹² Paul Kagan Assocs., Inc., Cable TV Investor, Feb. 29, 1996 (based on figures for Dec. 30, 1995).

The Communications Act of 1934, as amended, also contains a size standard for a “small cable operator,” which is “a cable operator that, directly or through an affiliate, serves in the aggregate fewer than one percent of all subscribers in the United States and is not affiliated with any entity or entities whose gross annual revenues in the aggregate exceed $250,000,000.”¹³ The Commission has determined that there are 67,700,000 subscribers in the United States.¹⁴ Therefore, an operator serving fewer than 677,000 subscribers shall be deemed a small operator, if its annual revenues, when combined with the total annual revenues of all of its affiliates, do not exceed $250 million in the aggregate.¹⁵ Based on available data, we estimate that the number of cable operators serving 677,000 subscribers or less totals approximately 1,450.¹⁶ We do not request or collect information on whether cable operators are affiliated with entities whose gross annual revenues exceed $250,000,000,¹⁷ and therefore are unable to estimate accurately the number of cable system operators that would qualify as small cable operators under the definition in the Communications Act.

¹³ 47 U.S.C. 543(m)(2).

¹⁴ See FCC Announces New Subscriber Count for the Definition of Small Cable Operator, Public Notice, 16 FCC Rcd 2225 (2001).

¹⁵ 47 CFR 76.1403(b).

¹⁶ See FCC Announces New Subscriber Count for the Definition of Small Cable Operator, Public Notice, 16 FCC Rcd 2225 (2001).

¹⁷ We do receive such information on a case-by-case basis only if a cable operator appeals a local franchise authority's finding that the operator does not qualify as a small cable operator pursuant to section 76.901(f) of the Commission's rules. See 47 CFR 76.990(b).

2. Satellite Telecommunications. The rules proposed in this Third Further Notice would affect providers of satellite telecommunications services, if adopted. Satellite telecommunications service providers include satellite operators and earth station operators. The Commission has not developed a definition of small entities applicable to satellite operators. Therefore, the applicable definition of small entity is generally the definition under the SBA rules applicable to Satellite Telecommunications.¹⁸ This definition provides that a small entity is expressed as one with $12.5 million or less in annual receipts.¹⁹ 1997 Census Bureau data indicate that, for 1997, 273 satellite communication firms had annual receipts of under $10 million. In addition, 24 firms had receipts for that year of $10 million to $24,999,990.²⁰

¹⁸ “This industry comprises establishments primarily engaged in providing point-to-point telecommunications services to other establishments in the telecommunications and broadcasting industries by forwarding and receiving communications signals via a system of satellites or reselling satellite telecommunications.” Small Business Administration, NAICS code 517310.

¹⁹ 13 CFR 120.121, NAICS code 517310.

²⁰ U.S. Census Bureau, 1997 Economic Census, Subject Service: Information, “Establishment and Firm Size,” Table 4, NAICS 513340 (Issued Oct. 2000).

3. Auxiliary, Special Broadcast and other program distribution services. This service involves a variety of transmitters, generally used to relay broadcast programming to the public (through translator and booster stations) or within the program distribution chain (from a remote news gathering unit back to the station). The Commission has not developed a definition of small entities applicable to broadcast auxiliary licensees. Therefore, the applicable definition of small entity is the definition under the Small Business Administration (SBA) rules applicable to radio broadcasting stations,²¹ and television broadcasting stations.²² These definitions provide that a small entity is one with either $6.0 million or less in annual receipts for a radio broadcasting station or $12.0 million in annual receipts for a TV station.²³ There are currently 3,237 FM translators and boosters, 4913 TV translators.²⁴ The FCC does not collect financial information on any broadcast facility and the Department of Commerce does not collect financial information on these auxiliary broadcast facilities. We believe, however, that most, if not all, of these auxiliary facilities could be classified as small businesses by themselves. We also recognize that most translators and boosters are owned by a parent station which, in some cases, would be covered by the revenue definition of small business entity discussed above. These stations would likely have annual revenues that exceed the SBA maximum to be designated as a small business (as noted, either $6.0 million for a radio station or $12.0 million for a TV station). Furthermore, they do not meet the Small Business Act's definition of a “small business concern” because they are not independently owned and operated.

²¹ 13 CFR 121.201, NAICS code 515112.

²² 13 CFR 121.201, NAICS code 515120.

²³ 13 CFR 121.201.

²⁴ FCC News Release, Broadcast Station Totals as of September 30, 1999, No. 71831 (Jan. 21, 1999).

4. Microwave Services. Microwave services include common carrier,²⁵ private-operational fixed,²⁶ and broadcast auxiliary radio services.²⁷ At present, there are approximately 22,015 common carrier fixed licensees and 61,670 private operational-fixed licensees and broadcast auxiliary radio licensees in the microwave services. The Commission has not yet defined a small business with respect to microwave services. For purposes of this FRFA, we will use the SBA's definition applicable to cellular and other wireless communications companies—i.e., an entity with no more than 1,500 persons.²⁸ We estimate that all of the Fixed Microwave licensees (excluding broadcast auxiliary licensees) would qualify as small entities under the SBA definition for radiotelephone (wireless) companies.

²⁵ See 47 CFR part 101 et seq. (formerly, part 21 of the Commission's Rules).

²⁶ Persons eligible under parts 80 and 90 of the Commission's rules can use Private Operational-Fixed Microwave services. See 47 CFR parts 80 and 90. Stations in this service are called operational-fixed to distinguish them from common carrier and public fixed stations. Only the licensee may use the operational-fixed station, and only for communications related to the licensee's commercial, industrial, or safety operations.

²⁷ Auxiliary Microwave Service is governed by part 74 of Title 47 of the Commission's Rules. See 47 CFR part 74 et seq. Available to licensees of broadcast stations and to broadcast and cable network entities, broadcast auxiliary microwave stations are used for relaying broadcast television signals from the studio to the transmitter, or between two points such as a main studio and an auxiliary studio. The service also includes mobile TV pickups, which relay signals from a remote location back to the studio.

²⁸ See 13 CFR 121.201, NAICS code 517212.

D. Description of Projected Reporting, Recordkeeping, and Other Compliance Requirements for Small Entities

None of the proposed rules in this notice are intended to increase the reporting, recordkeeping and other compliance requirements of any telecommunications carrier. Adoption of an off-axis EIRP approach for the regulation of FSS earth stations would require changes to the application form for earth station licenses, those changes are not intended to be more or less burdensome than the current application requirements. Furthermore, those changes, if adopted, would not affect small business earth station operators any differently than other earth station operators.

E. Steps Taken to Minimize Significant Economic Impact on Small Entities, and Significant Alternatives Considered

The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

In the Third Further Notice, the Commission considers a proposal from the Further Notice regarding VSAT networks using contention protocols, and also considers several proposals from commenters. The Commission rejects all those proposals as too restrictive for all earth station operators, including small business operators, and seeks comment on a new proposal which it believes to be less restrictive.

F. Federal Rules That May Duplicate, Overlap, or Conflict With the Proposed Rules

None.

Ordering Clauses

Accordingly, It is ordered, pursuant to sections 4(i), 7(a), 11, 303(c), 303(f), 303(g), and 303(r) of the Communications Act of 1934, as amended, 47 U.S.C. 154(i), 157(a), 161, 303(c), 303(f), 303(g), 303(r), that this Third Further Notice of Proposed Rulemaking is hereby adopted.

It is further ordered that the Commission's Consumer and Governmental Affairs Bureau, Reference Information Center, shall send a copy of this Notice of Proposed Rulemaking, including the Initial Regulatory Flexibility Analysis, to the Chief, Counsel for Advocacy of the Small Business Administration.

Federal Communications Commission.
Marlene H. Dortch,
Secretary.

[FR Doc. 05-11172 Filed 6-7-05; 8:45 am]

BILLING CODE 6712-01-P